DEPARTMENT OF TRANSPORTATION

Coast Guard

46 CFR Parts 110 and 111

[USCG-1999-6096]

RIN 2115-AF89

Marine Shipboard Electrical Cable Standards

AGENCY: Coast Guard, DOT.

ACTION: Final rule.

SUMMARY: The Coast Guard amends its electrical engineering regulations for merchant vessels by adding alternate cable standards that are equivalent to the existing standards. Our purpose is to revise requirements that create an unwarranted difference between domestic rules and international standards for marine cable.

DATES: This final rule is effective July 5, 2001. The incorporation by reference of certain publications listed in the rule is approved by the Director of the Federal Register as of July 5, 2001.

ADDRESSES: Comments and material received from the public, as well as documents mentioned in this preamble as being available in the docket, are part of docket USCG-1999-6096 and are available for inspection or copying at the Docket Management Facility, U.S. Department of Transportation, room PL-401, 400 Seventh Street SW., Washington, DC, between 9 a.m. and 5 p.m., Monday through Friday, except Federal holidays. You may also find this docket on the Internet at http://dms.dot.gov.

FOR FURTHER INFORMATION CONTACT: If you have questions on this rule, call Dolores Mercier, Project Manager, Office of Design and Engineering Standards (G-MSE), Coast Guard, telephone 202-267-0658. If you have questions on viewing the docket, call Dorothy Beard, Chief, Dockets, Department of Transportation, telephone 202-366-5149.

SUPPLEMENTARY INFORMATION:

Regulatory History

On February 8, 2000, we published a notice of proposed rulemaking (NPRM) entitled “Marine Shipboard Electrical Cable Standards” in the Federal Register (65 FR 6111). Following publication of the NPRM, we received several requests to hold a public meeting. In response to these requests, we scheduled a public meeting for June 28, 2000. We notified the public of the meeting in a notice of public meeting and reopening of comment period published on June 5, 2000 (65 FR 35600). On June 26, 2000, we published a correction to the notice (65 FR 39334). On July 27, 2000, we published a notice to reopen the comment period (65 FR 46143).

Background and Purpose

Since the last revision of our electrical engineering regulations in 46 CFR chapter I, subchapter J, (62 FR 23894, May 1, 1997), we have received a number of letters concerning the construction requirements in 46 CFR 111.60-1 and 111.60-3 for cable used on merchant vessels. Sections 111.60-1 and 111.60-3 allow the use of cables meeting certain industry standards listed in those sections. The letters suggest that there are other cable standards beside those listed in the two sections that would provide a level of performance and safety equivalent to the listed standards. The Coast Guard completed equivalency determinations on UL 1309 (1995); IEC 92-350, 1988, amendment 1 (1994); and IEC 92-353 (1995-01) and found them to be equivalent.

Discussion of Comments and Changes

The Coast Guard received 58 comments on the notice of proposed rulemaking (NPRM). Here, we discuss first comments of a general nature, then comments relating to specific sections of the regulation.

I. General Comments

1. Several commenters liked the proposed changes to §§ 111.60-1 and 111.60-3. They agreed that the changes offered the entire maritime industry more flexibility and increased the clarity of the regulations without compromising performance or safety. A number of comments commended the Coast Guard's effort to enhance its marine shipboard electrical cable regulation and incorporate industry standards, both domestic and international.

2. Eight comments recommended that the Coast Guard use the new IEC numbering system for its references to any IEC standard.

The Coast Guard agrees with these comments and will change them throughout 46 CFR as part of a separate rulemaking.

3. Six comments stated that the Coast Guard requires marine shipboard electrical cable to be certified by an independent laboratory.

The Coast Guard does not require third-party verification for marine shipboard electrical cable. The cable manufacturer may self-certify its cable to any of the cable standards listed in § 111.60-1(a).

4. Three comments suggested that the Coast Guard list in 46 CFR all cable types approved by the Coast Guard as meeting a particular standard.

If the cable meets a standard accepted by the Coast Guard, the standard's number (e.g., IEC 92-3) appears on the cable markings. Therefore, there is no need to also list them in the regulations.

5. Several comments recommended that the edition of IEEE Std 45 referenced in the existing regulations be changed from the 1983 edition to the 1998 edition.

As a separate project, we published a request for comments on January 8, 2001 (66 FR 1283), regarding this specific recommendation, and we look forward to receiving additional comments on this topic under that notice.

6. Eleven comments stated that IEC 92-3 was an obsolete standard and should not be referenced in 46 CFR chapter I, subchapter J.

The Coast Guard still recognizes IEC 92-3 as an acceptable standard, however it will be reviewed as part of a future rulemaking.

7. Two comments asked whether NVIC 2-89, Guide for Electrical Installation on Merchant Vessels and Mobile Offshore Drilling Units, will still be valid with the incorporation of UL 1309 in §§ 111.60-1 and 111.60-3.

NVIC 2-89 is not affected by this rulemaking.

II. Comments on Specific Sections

Section 111.60-1

1. Six comments agreed with adding IEC 92-350 and IEC 92-353 to §§ 111.60-1(a) and 111.60-3. These comments agree that the current marine shipboard cable regulations create an unwarranted differential between domestic rules and international standards. Some comments also pointed out that classification societies, such as American Bureau of Shipping (ABS) and Det Norske Veritas (DNV), accept IEC standards in their regulations.

2. Three comments recommended that IEC 92-350 not be added to § 111.60-1(a), as proposed, because IEC 92-353, which is also added to § 111.60-1(a), refers to IEC 92-350.

Although IEC 92-350 is referred to in IEC 92-353, the Coast Guard accepts only the 1988, amendment 1 (1994), edition of IEC 92-350. Therefore, IEC 92-350 is listed here and in § 110.10-1(b) to let the user know which revision of the standard we recognize.

3. Seven comments disagreed with adding IEC 92-350 and IEC 92-353 to §§ 111.60-1 and 111.60-3. The reason most stated for this disagreement was that the thickness of the insulation of the IEC cable is less than the thickness of cable insulation under IEEE Std 45, 1983.

We agree that the IEC cable does have thinner insulation and, because of this, we require the use of the derated ampacity and temperature table in IEC 92-352 for this cable. We have added this requirement for all cable constructed to IEC 93-353 and have added “IEC 92-353” to §§ 111.60-3(c).

4. Fourteen comments commended the Coast Guard's initiative in adding UL Std 1309 (1995) to §§ 111.60-1(a) and 111.60-3(a).

5. Five comments stated that cable constructed to UL 1309 provides for third-party testing of the cable. UL Std 1309 (1995), in itself, does not require or guarantee third-party testing (listing by UL). It is a construction standard to which a manufacturer may self-certify its cable. The manufacturer may then label the cable as meeting UL Std 1309 (1995), section 5(f). Third-party verification would be initiated if the cable manufacturer requests that the testing of the cable to UL Std 1309 (1995) be performed by an independent laboratory.

6. Three comments recommended that UL Std 1309 (1995) not be used in the electrical cable regulations, because they believe the standard is not an industry consensus standard.

UL standards are widely recognized throughout the maritime industry on an international level.

7. Six comments requested that the Coast Guard identify only one standard in § 111.60-1(a) and (b) for the flammability requirements for marine shipboard electrical cable.

The current flammability standards are equivalent to one another. This allows manufacturers the flexibility to test their cables to one of the flammability standards in § 111.60-1(a) or (b).

8. Two comments stated that the low smoke zero halogen cable referred to in IEC 92-353 could not meet the flammability standards in IEC 332-3, as required by § 111.60-1(b).

In response to these comments, all cable must meet the flammability requirements of § 111.60-1(a) or (b).

9. Three commenters were concerned that the temperature ratings for Type T/N cable would be changed.

Before this rulemaking, the Coast Guard accepted, based on an equivalency determination, Type T/N cable that carried a rating of 75 °C or 90 °C. Both of these ratings for Type T/N cable are listed in UL 1309. Therefore, ratings for these cables are not affected by this rulemaking.

10. Two comments noted that, though we now allow, in § 111.60-1(a), the use of cable meeting UL Std 1309 or IEC 92-350, we do not have installation requirements for those cables.

Section 111.60-5(a) states that each cable installation must meet (1) IEEE Std 45 sections 20 (except 20.11) and 22; or (2) IEC 92-3 and paragraph 8 of IEC 352.

Section 111.60-3

11. Six comments pointed out that Type T/N cable can not meet the application standards listed in UL Std 1309 (1995), as proposed in § 111.60-3(b), because that standard is a construction and testing standard.

We agree with these comments and will not make the proposed change to 46 CFR 111.60-3(b). For application purposes, Type T/N cable must meet the section 19 of IEEE Std 45, 1983, for Type T insulation.

Incorporation by Reference

The Director of the Federal Register has approved the material in § 110.10-1(b) for incorporation by reference under 5 U.S.C. 552 and 1 CFR part 51. Copies of the material are also available from the sources listed in that section.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, 1979). We expect the economic impact of this rule to be so minimal that a full Regulatory Evaluation under paragraph 10e of the regulatory policies and procedures of DOT is unnecessary.

The rule is intended to provide a greater choice in the type of shipboard cable by allowing the use of cable made to standards other than those specified in the current regulations. This will increase the number of choices for vessel owners without increasing costs. In addition, it will benefit vessel owners by enhancing competition within the cable industry.

We received three comments indicating that the proposed rule would significantly increase the cost of doing business for U.S. cable manufacturers. The comments expressed concern that foreign cable would be more cost advantageous for shipyards and installers.

This rule is intended to harmonize the Coast Guard's cable requirements with those of classification societies and international performance-based standards. It does not add additional requirements for U.S. cable manufacturers nor restrict them from also manufacturing cable to the newly added standards. The cable currently produced by U.S. manufacturers that meets the other standards listed in §§ 111.60-1(a) (i.e., IEEE Std 45, IEC 92-3, MIL-C-24640A, or MIL-C-24643A) will still be acceptable for shipboard use. Consequently, we disagree that this rule will increase the costs of doing business for U.S. cable manufacturers. However, this rule does add alternatives to the existing standards that will be accepted. End users will gain flexibility from having more purchasing options. If end users, such as small businesses, are able to save money from having additional options due to increased competition, the cost savings to them would be considered an economic benefit of this rulemaking.

Small Entities

Under the Regulatory Flexibility Act (5 U.S.C. 601-612), we considered whether this rule will have a significant economic impact on a substantial number of small entities. The term “small entities” comprises small businesses, not-for-profit organizations that are independently owned and operated and are not dominant in their fields, and governmental jurisdictions with populations of less than 50,000.

As discussed in the Regulatory Evaluation section of this preamble, there are no costs associated with this rule. Therefore, the Coast Guard certifies under 5 U.S.C. 605(b) that this final rule will not have a significant economic impact on a substantial number of small entities.

Collection of Information

This rule calls for no new collection of information under the Paperwork Reduction Act of 1995 (44 U.S.C. 3501-3520).

Federalism Summary Impact Statement

We have analyzed this rule under Executive Order 13132, Federalism. This rule amends the regulations on vessel design and construction. In particular, it provides vessel owners with additional options in the choice of cable used on their vessels.

It is well settled that States may not regulate in categories reserved for regulation by the Coast Guard. It is also well settled that all of the categories covered in 46 U.S.C. 3306, 3703(a), 7101, and 8101 (design, construction, alteration, repair, maintenance, operation, equipping, personnel qualification, and manning of vessels), as well as casualty reporting and other categories where Congress has intended the Coast Guard to be the sole source of a vessel's obligations, are within the field foreclosed from State regulation. (See the decision of the Supreme Court in the consolidated cases of United States v. Locke and Intertanko v. Locke, 529 U.S. 89, 120 S. Ct. 1135 (March 6, 2000).)

This entire rule falls into the field encompassed by 46 USC 3306 and 3703(a), where, by operation of law, State regulation is precluded. For this reason, consultation under section 6 of the Executive Order would not be meaningful and, therefore, is unnecessary.

Unfunded Mandates Reform Act

The Unfunded Mandates Reform Act of 1995 (2 U.S.C. 1531-1538) requires Federal agencies to assess the effects of their regulatory actions not specifically required by law. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments. Rules with tribal implications have substantial direct effects on one or more Indian tribes, on the relationship between the Federal Government and Indian tribes, or on the distribution of power and responsibilities between the Federal Government and Indian tribes.

Environment

We have considered the environmental impact of this rule and concluded that, under figure 2-1, paragraphs (34)(d) and (e), of Commandant Instruction M16475.1C, this rule is categorically excluded from further environmental documentation. This rule concerns the equipping of, and carriage requirements for, vessels. A “Categorical Exclusion Determination” is available in the docket where indicated under ADDRESSES.

List of Subjects

46 CFR Part 110

Incorporation by reference, Reporting and recordkeeping requirements, Vessels.

46 CFR Part 111

Incorporation by reference, Vessels.

For the reasons discussed in the preamble, the Coast Guard amends 46 CFR parts 110 and 111 as follows:

PART 110—GENERAL PROVISIONS

1. The authority citation for part 110 continues to read as follows:

Authority: 33 U.S.C. 1509; 43 U.S.C. 1333; 46 U.S.C. 3306, 3307, 3703; E.O. 12234, 45 FR 58801, 3 CFR, 1980 Comp., p. 277; 49 CFR 1.45, 1.46; § 110.01-2 also issued under 44 U.S.C. 3507.

2. In § 110.10-1(b), in the entries for “International Electrotechnical Commission” and “Underwriters Laboratories, Inc.,” revise the introductory text and add, in numerical order, new standards IEC 92-350, IEC 92-353, and UL 1309 to read as follows:

§ 110.10-1 Incorporation by reference.

* * * * *

(b) * * *

* * * * *

International Electrotechnical Commission (IEC) 3, rue de Varembe, Geneva, Switzerland. (Also available from ANSI—address above.)

* * * * *

IEC 92-350, Electrical Installations in Ships, Part 350: Low-Voltage Shipboard Power Cables—General Construction and Test Requirements, 1988, Amendment 1 (1994) .111.60-1

* * * * *

IEC 92-353, Electrical Installations in Ships, Part 353: Single and Multicore Non-radial Field Power Cables with Extruded Solid Insulation for Rated Voltages 1 kV and 3 kV, Second edition, 1995-01—111.60-1, 111.60-3

* * * * *

Underwriters Laboratories, Inc. (UL) 12 Laboratory Drive, Research Triangle Park, NC 27709-3995.

* * * * *

UL 1309, Standard for Marine Shipboard Cable, First edition, July 14, 1995—111.60-1, 111.60-3

* * * * *

PART 111—ELECTRIC SYSTEMS—GENERAL REQUIREMENTS

3. The authority citation for part 111 continues to read as follows:

Authority: 46 U.S.C. 3306, 3703; 49 CFR 1.46.

4. In § 111.60-1, revise paragraphs (a) and (b) and the introductory text of paragraph (c) to read as follows:

§ 111.60-1 Cable construction and testing.

(a) Each marine shipboard cable must meet all of the construction and identification requirements of either IEEE Std 45, IEC 92-3, IEC 92-350, IEC 92-353, UL 1309, MIL-C-24640A, or MIL-C-24643A (incorporated by reference, see § 110.10-1 of this chapter), and the respective flammability tests contained in them and be of a copper stranded type.

Note to Paragraph (a): MIL-C-915 cable is acceptable only for repairs and replacements in kind. MIL-C-915 cable is no longer acceptable for alterations, modifications, conversions, or new construction. (See § 110.01-3 of this chapter).

(b) Each cable constructed to IEC 92-3 or IEC 92-353 must meet the flammability requirements of IEC 332-3, Category A.

(c) Electrical cable that has a polyvinyl chloride insulation with a nylon jacket (Type T/N) must meet UL 1309 or must meet the requirements for polyvinyl chloride insulated cable in section 18 of IEEE Std 45. If meeting the requirements for polyvinyl chloride insulated cable in IEEE Std 45, section 18, the following exceptions apply—

* * * * *

5. In § 111.60-3, revise paragraphs (a) and (c) to read as follows:

§ 111.60-3 Cable application.

(a) Cable constructed according to IEEE Std 45 must meet the cable application provisions of section 19 of IEEE Std 45. Cable constructed according to IEC 92-3, IEC 92-353, or UL 1309 must meet the provisions of section 19 of IEEE Std 45, except 19.6.1, 19.6.4, and 19.8. Cable constructed according to IEC 92-3 and IEC 92-353 must comply with the ampacity values of IEC 92-352, Table 1.

* * * * *

(c) Cable constructed according to IEEE Std 45 must be derated according to Table A6, Note 6, of IEEE Std 45. Cable constructed according to IEC 92-3 or IEC 92-353 must be derated according to IEC 92-352, paragraph 8. MIL-C-24640A and MIL-C-24643A cable must be derated according to MIL-HDBK-299(SH).

Dated: March 30, 2001.
R.C. North,
Rear Admiral, U.S. Coast Guard, Assistant Commandant for Marine Safety and Environmental Protection.

[FR Doc. 01-13706 Filed 6-1-01; 8:45 am]

BILLING CODE 4910-15-P